DEPARTMENT OF LABOR

Employment and Training Administration

Notice of Determinations Regarding Eligibility To Apply for Worker Adjustment Assistance and NAFTA Transitional Adjustment Assistance

In accordance with Section 223 of the Trade Ace of 1974, as amended, the Department of Labor herein presents summaries of determinations regarding eligibility to apply for trade adjustment assistance for workers (TA-W) issued during the period of May 2002.

In order for an affirmative determination to be made and a certification of eligibility to apply for worker adjustment assistance to be issued, each of the group eligibility requirements of Section 222 of the Act must be met.

(1) That a significant number of proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to workers separations at the firm.

TA-W-39,486; O'Neal Steel, Inc., Weldment Div. Roaanoke, VA

TA-W-39,859; Modern Tool and Die, Modern Line Products, Indianola, MS

TA-W-40,943; Ormet Aluminum Mill Products, Jackson, TN

TA-W-41,005; F.L. and J.C. Codman Co., Rockland, MA

TA-W-41,061; Jeld-Wen of Shite Swan, White Swan, WA

TA-W-41,284; Corning Cable Systems Telecommunications Cable Plant, Hickory, NC

In the following cases, the investigation revealed that the criteria for eligibility have not been met for the reasons specified.

The workers firm does not produce an article as required for certification under Section 222 of the Trade Act of 1974.

TA-W-41,394; Watkins Motor Lines, Inc., Charlotte, NC

TA-W-41,375; Wolverine Proctor and Schwartz, Inc., Div. of American Tool and Machine Co., Fitchburg, MA

Increased imports did not contribute importantly to worker separations at the firm.

TA-W-41,479; Textron Folk, Turf and Specialty Products, Racine, WI

TA-W-40,988; Screen Creations Ltd, O'Fallon, MO

TA-W-41,082; Bacou-Dalloz, GPT Glendale, Inc., Lakeland, FL

TA-W-41,247; Wellington Leisure Products, Parsons, TN

TA-W-41,356; Aspen Trailer, Inc., Litchfield, MN

TA-W-41,361; Vesuvius USA, South Webster, OH

Affirmative Determination for Worker Adjustment Assistance

The following certifications have been issued; the date following the company name and location of each determination references the impact date for all workers of such determination.

TA-W-41,528; the Toro Co., Irrigation Div., Including Leased Workers of Volt Temporary Services Riverside, CA: April 16, 2001.

TA-W-41,371; Franklin Brass Mfg. Co., Rancho Dominiguez, CA: March 26, 2001.

TA-W-41,306 & A; Riverside Paper Corp., Riverside Paper Co., Appleton, WI and Kerwin Paper Mill, Appleton, WI: March 18, 2001.

TA-W-41,153; Georgia-Pacific Corp., Louisville, MS: January 8, 2001.

TA-W-40,107; Continental Accessories, Inc., North Sturgis, MI: September 7, 2000.

TA-W-41,084Milady Bridals, Inc., Union City, NJ: February 14, 2001.

TA-W-41,034; American Mold and Engineering Co., Fridley, MN: January 18, 2001.

TA-W-40,981; Gates Ruber Co., Galesburg, IL: January 11, 2001.

TA-W-40,959; Jester Apparel, Brooklyn, NY: December 21, 2000.

TA-W-40,896; Them's Fine Apparel, Bethel Springs, TN: September 6, 2000.

TA-W-40,758; R and M Dress, Inc., Also Known as Old Friends Clothing Co., Lebanon, PA: October 26, 2000.

TA-W-40,506; Sunrise Medical Oshkosh, WI: October 29, 2000.

?TA-W-40,277; Modern Plastic Technics, West Berlin, NJ: October 2, 2000.

TA-W-40,172; SGL Corp., St. Marys, PA: September 20, 2000.

TA-W-41,544; Osprey Packs, Inc., Cortez, CO: May 17, 2001.

TA-W-41,539; CECO Door Products, Harlingen, TX: April 22, 2001.

TA-W-41,460; Hoffman Enclosures, Inc., A Pentair Co., Anoka, MN: April 18, 2001.

TA-W-41,364; Amloid Corp., Saddle Brook, NJ: March 19, 2001.

Also, pursuant to Title V of the North American Free Trade Agreement Implementation Act (Pub. L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of May, 2002.

In order for an affirmative determination to be made and a certification of eligibility to apply for NAFTA-TAA the following group eligibility requirements of Section 250 of the Trade Act must be met:

(1) That a significant number of proportion of the workers in the workers' firm, or an appropriate subdivision thereof, (including workers in any agricultural firm or appropriate subdivision thereof) have become totally or partially separated from employment and either—

(2) that sales or production, or both, of such firm or subdivision have decreased absolutely,

(3) that imports from Mexico or Canada of articles like or directly competitive with articles produced by such firm or subdivision have increased, and that the increases imports contributed importantly to such workers' separations or threat of separation and to the decline in sales or production of such firm or subdivision; or

(4) that there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-06156; Textron Golf, Turf and Specialty Products, Racine, WI

NAFTA-TAA-04981; O'Neal Steel, Inc., Weldment Div., Roanoke, VA

NAFTA-TAA-05898; R.C.M. Manufacturing Co., River Falls Manufacturing Co. Div. of S. Rothschild & Co., Fall River, MA

NAFTA-TAA-05922; Gates Rubber Co., Galesburg, IL

NAFTA-TAA-05946; Modern Tool and Die, Modern Line Products, Indianola, MD

NAFTA-TAA-05954; F.L. and J.C. Codman Co., Rockland, MA

NAFTA-TAA-05962; Parksley Apparel, Parksley, VA

NAFTA-TAA-06054; Guilford Mills, Inc., Cobleskill, NY

NAFTA-TAA-06083; MJM Knitwear Corp., Brooklyn, NY

NAFTA-TAA-06121; Acorn Products Co., Inc., Lewiston, ME

NAFTA-TAA-06134; Independent Tool and Manufacturing, Meadville, PA

The investigation revealed that the criteria for eligibility have not been met for the reasons specified.

The investigation revealed that workers of the subject firm did not produce an article within the meaning of Section 250(a) of the Trade Act, as amended.

NAFTA-TAA-06106; Spiegel Group Teleservices, Wichita, Kansas Call Center, Wichita, KS

NAFTA-TAA-05819; Seagate Technology, Oklahoma City, OK

NAFTA-TAA-06142; Watkins Motor Lines, Inc., Charlotte, NC

Affirmative Determinations NAFTA-TAA

NAFTA-TAA-06097; Amloid Corp., Saddle Brook, NJ: March 21, 2001.

NAFTA-TAA-05282; Them's Fine Apparel, Bethel Springs, TN: September 6, 2000.

NAFTA-TAA-05338; Continental Accessories, Inc., North Sturgis, MI: September 7, 2000.

NAFTA-TAA-05476; Modern Plastics Technics, West Berlin, NJ: October 2, 2000.

NAFTA-TAA-05723; Screen Creations, Ltd, O'Fallon, MO: January 8, 2001.

NAFTA-TAA-05927; Doerun Sportswear, Inc., Doerun, GA: February 26, 2001.

NAFTA-TAA-06123; Starkey Laboratories, Glencoe, MN: April 16, 2001.

NAFTA-TAA-06125; Wabash Technologies, Inc., Automotive Business Unit, Huntington, IN: April 15, 2001.

NAFTA-TAA-06056; Oetiker, Inc., Livingston, NJ: February 22, 2001.

NAFTA-TAA-06175; Wabash Alloys, LLC, Syracuse, NY: March 1, 2001.

I hereby certify that the aforementioned determinations were issued during the month of May, 2002. Copies of these determinations are available for inspection in Room C-5311, U.S. Department of Labor, 200 Constitution Avenue, NW., Washington, DC 20210 during normal business hours or will be mailed to persons who write to the above address.

Dated: June 4, 2002.
Edward A. Tomchick,
Director, Division of Trade Adjustment Assistance.

[FR Doc. 02-14600 Filed 6-10-02; 8:45 am]

BILLING CODE 4510-30-M